DEPARTMENT OF HEALTH AND HUMAN SERVICES

Centers for Disease Control and Prevention

[60Day-01-35]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

Assess Reporting Practices for Q fever in each State, and Collect Retrospective Information on Numbers of Q fever Cases Reported between 1978-1999—New—National Center for Infectious Diseases (NCID), Centers for Disease Control and Prevention (CDC). Q fever, caused by the rickettsial agent Coxiella burnetii, is considered a potential agent of bioterrorism. Q fever in humans was made nationally notifiable in the United States in 1999, and data are collected passively by CDC through the National Electronic Telecommunications System for Surveillance (NETSS). At the time Q fever was made nationally notifiable, approximately half of states already considered it a reportable disease. However, current information on how many states have changed their reporting criteria since 1999 or what reporting methods are used are not available, making it difficult to interpret data reported to NETSS. Q fever reporting data is available by state for the years 1948-1977, and complete annual NETSS data is available beginning in the year 2000. However, data for the years 1978-1999 have never been collected. These data are vitally important to establish baseline rates of infection, providing immediate benefits in understanding the geographic distribution of Q fever in the United States. Without these data, it will take several years to acquire useful NETSS data to make the same assessments.

The purpose of this study is to assess reporting practices for Q fever in each state, and to collect retrospective information on numbers of Q fever cases reported between 1978-1999. Respondents include an epidemiologist and laboratorian in every state. The results will be used to evaluate Q fever reporting practices in each state, in order to better assess the usefulness of NETSS-reported data. Data will also be used to examine the epidemiology of cases reported between 1979-1999, including estimated incidence rates, geographic distribution maps, and demographic risk factors. The estimated cost to the public is between $3405-$6405. Time burden for response to Form A may vary, depending on whether there are cases of Q fever the state plans to report.

Respondents | Number of respondents | Number of responses per respondent | Avg. burden per respondent in hours | Total burden in hours
Part A: Epidemiologist | 50 | 1 | 30-120/60 | 25-100
Part B: Laboratorians | 50 | 1 | 15/60 | 13
Total |  |  |  | 38-113

Dated: May 1, 2001.
Nancy Cheal,
Acting Associate Director for Policy, Planning and Evaluation, Centers for Disease Control and Prevention.

[FR Doc. 01-11498 Filed 5-7-01; 8:45 am]

BILLING CODE 4163-18-P